DEPARTMENT OF HOMELAND SECURITY

Coast Guard

[Docket No. USCG-2008-1061]

Chemical Transportation Advisory Committee

AGENCY: Coast Guard, DHS.

ACTION: Notice of meetings.

SUMMARY: The Chemical Transportation Advisory Committee (CTAC), its Subcommittees on Outreach, National Fire Protection Association (NFPA) 472 Standard, Hazardous Cargo Transportation Security (HCTS), and International Maritime Solid Bulk Cargoes (IMSBC) Code; as well as its Working Groups on Barge Emission and Hazard Communication and the International Convention for the Prevention of Pollution from Ships (MARPOL) Annex; will meet to discuss various issues relating to the marine transportation of hazardous materials in bulk. These meetings will be open to the public.

DATES: The Subcommittee on Outreach and NFPA 472 will meet on Tuesday, November 18, 2008 from 9 a.m. to 10 a.m. The Subcommittee for HCTS will meet on Tuesday, November 18, 2008 from 10 a.m. to 12 p.m. The MARPOL Annex Working Group will meet on Tuesday, November 18, 2008 from 1 p.m. to 3 p.m. The Working Group on Barge Emission and Hazard Communication will meet on Tuesday, November 18, 2008, from 3 p.m. to 4 p.m. The Subcommittee for IMSBC Code will meet on Tuesday, November 18, 2008, from 9 a.m. to 5 p.m. CTAC will meet on Thursday, November 19, 2008, from 9 a.m. to 3:30 p.m.

ADDRESSES: CTAC's Subcommittees and Working Groups will be meeting at INEOS, 2600 South Shore Boulevard, League City, TX 77573. The CTAC meeting will be at the South Shore Harbour Resort and Conference Center, 2500 South Shore Blvd., League City, TX 77573. Send written material and requests to make oral presentations to Commander Rick Raksnis, Commandant (CG-5223), U.S. Coast Guard Headquarters, 2100 Second Street, SW., Washington, DC 20593-0001.

FOR FURTHER INFORMATION CONTACT: Commander Rick Raksnis, Designated Federal Officer (DFO) of CTAC, or Sara Ju, Assistant to the DFO, telephone 202-372-1422, fax 202-372-1926.

SUPPLEMENTARY INFORMATION: Notice of these meetings is given under the Federal Advisory Committee Act, 5 U.S.C. App. (Pub. L. 92-463).

Agendas of Meetings

Chemical Transportation Advisory Committee (CTAC). The agenda includes the following:

(1) Progress report from the Outreach Subcommittee and its Barge Emission and Hazard Communication Working Group.

(2) Status report on the HCTS Subcommittee.

(3) Progress report on the IMSBC Code Subcommittee.

(4) Status report on the MARPOL Annex Working Group.

(5) Status report on the NFPA 472 Standard Subcommittee.

(6) Presentation on Houston/Galveston Navigation Safety Advisory Committee (HOGANSAC) and its Brown Water University.

(7) Presentation on the response to the Vinyl Chloride Monomer spill in Corpus Christi, TX.

The Outreach Subcommittee and the Barge Emission and Hazard Communication Working Group. The Subcommittee and the Working Group will discuss outreach efforts especially aimed at barge owners and operators regarding best practices for reducing hazardous emissions.

The HCTS Subcommittee. The Subcommittee will discuss progress with the Transportation Workers Identification Credentials (TWIC) program and proposed Advanced Notice of Arrival (ANOA) regulatory changes.

The IMSBC Code Subcommittee. The Subcommittee will discuss harmonization of U.S. regulations with the IMSBC Code and SOLAS Chapter VI, and incorporation of requirements and best practices for the safe transport of solid bulk cargoes contained in Coast Guard policy, guidelines, and previously issued special permits.

The MARPOL Annex Working Group. The Working Group will review the task statement and discuss improvements for the adequacy of port waste reception facilities.

The NFPA 472 Standards Subcommittee. The Subcommittee will review the task statement and identify any outstanding items.

Procedural

These meetings are open to the public. At the Chair's discretion, members of the public may make oral presentations during these meetings. If you would like to make an oral presentation at these meetings, please notify the DFO no later than November 11, 2008. Written material for distribution at these meetings should reach the Coast Guard no later than November 11, 2008. If you would like a copy of your material distributed to each member of the committee in advance of these meetings, please submit 25 copies to the DFO no later than November 11, 2008.

Information on Services for Individuals With Disabilities

For information on facilities or services for individuals with disabilities or to request special assistance at these meetings, contact the DFO as soon as possible.

Dated: October 16, 2008.
J. Lantz,
Director of Commercial Regulations and Standards.

[FR Doc. E8-25445 Filed 10-23-08; 8:45 am]

BILLING CODE 4910-15-P